DEPARTMENT OF ENERGY

Federal Energy Regulatory Commission

[Docket No. CP12-60-000]

Williston Basin Interstate Pipeline Company; Notice of Request Under Blanket Authorization

Take notice that on February 15, 2012, Williston Basin Interstate Pipeline Company (Williston Basin), 1250 West Century Avenue, Bismarck, North Dakota 58503, pursuant to its blanket certificate issued in Docket Nos. CP82-487-000, et al.,¹ filed an application in accordance to sections 157.208(b) of the Commission's Regulations under the Natural Gas Act (NGA) as amended, to permanently operate a mainline natural gas sales tap located in Williams County, North Dakota, all as more fully set forth in the application, which is on file with the Commission and open to public inspection.

¹ 30 FERC ¶ 61,143 (1985).

The new sales tap was installed as an emergency natural gas transportation transaction on December 22, 2011 under Part 284, Subpart I of the Commission's Regulations. The sales tap installation included a steel pipe riser with a shut-in valve and other pipe fittings at the location located in Williston Basin's existing pipeline right-of-way. The sales tap was necessary to meet an emergency request by Montana-Dakota Utilities, Inc. (Montana-Dakota) to ensure uninterrupted firm sales service to Montana-Dakota's customers in the southwestern portion of the city of Williston, North Dakota. Montana-Dakota will use existing firm and interruptible transportation contracts to serve the demand through this tap; sufficient pipeline capacity exists on Williston Basin's system to serve the demand with no operational impact. The cost of the facilities constructed by Williston Basin is approximately $5,000.00 and will be fully reimbursed by Montana-Dakota.

Any questions concerning this application may be directed to Keith A. Tiggelaar, Director of Regulatory Affairs, Williston Basin Interstate Pipeline Company, 1250 West Century Avenue, Bismarck, North Dakota 58503, at (701) 530-1560, or email at keith.tiggelaar@wbip.com.

This filing is available for review at the Commission or may be viewed on the Commission's Web site at http://www.ferc.gov, using the “eLibrary” link. Enter the docket number excluding the last three digits in the docket number filed to access the document. For assistance, please contact FERC Online Support at FERC OnlineSupport@ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to Section 7 of the NGA.

Dated: February 22, 2012.
Kimberly D. Bose,
Secretary.

[FR Doc. 2012-4771 Filed 2-28-12; 8:45 am]

BILLING CODE 6717-01-P